DEPARTMENT OF TRANSPORTATION

Surface Transportation Board

[STB Finance Docket No. 34780]¹

Northern Plains Railroad, Inc.—Operation Exemption—Rail Line of Mohall Central Railroad, Inc.

¹ A concurrently filed verified notice of exemption in STB Finance Docket No. 34781, Mohall Central Railroad, Inc. and Gregg Haug—Continuance in Control Exemption was withdrawn on December 22, 2005.

Northern Plains Railroad, Inc. (NPR), a Class III rail carrier, has filed a verified notice of exemption under 49 CFR 1150.41 to operate approximately 69.15 miles of railroad owned by Mohall Central Railroad, Inc. (MCR), between milepost 72.9 at Sarles, ND, and milepost 3.75 near Lakota, ND.²

² MCR was authorized to acquire the line of railroad from BNSF Railway Company in STB Finance Docket No. 34759, Mohall Central Railroad, Inc.—Acquisition and Operation Exemption—Rail Line of BNSF Railway Company (STB served Oct. 25, 2005).

NPR certifies that its projected annual revenues as a result of the transaction will not exceed those of a Class III rail carrier and will not exceed $5 million. The transaction was scheduled to be consummated no earlier than December 6, 2005 (7 days after the exemption was filed).

If the verified notice contains false or misleading information, the exemption is void ab initio. Petitions to revoke the exemption under 49 U.S.C. 10502(d) may be filed at any time. The filing of a petition to revoke will not automatically stay the transaction.

An original and 10 copies of all pleadings, referring to STB Finance Docket No. 34780, must be filed with the Surface Transportation Board, 1925 K Street, NW., Washington, DC 20423-0001. In addition, a copy of each pleading must be served on Mark S. Radke, 220 South Sixth Street, Suite 2200, Minneapolis, MN 55402.

Board decisions and notices are available on our Web site at “http://www.stb.dot.gov.”

Decided: December 22, 2005.
By the Board, David M. Konschnik, Director, Office of Proceedings.
Vernon A. Williams,
Secretary.

[FR Doc. E5-8087 Filed 12-28-05; 8:45 am]

BILLING CODE 4915-01-P